ENVIRONMENTAL PROTECTION AGENCY

[FRL-7819-3]

Agency Information Collection Activities OMB Responses

AGENCY: Environmental Protection Agency (EPA).

ACTION: Notice.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 2157.01; Request for Information on Existing and Available Stocks of Methyl Bromide; was approved 08/06/2004; OMB Number 2060-0557; expires 01/31/2005.

EPA ICR No. 1844.02; Recordkeeping and Reporting Requirements for Petroleum Refinery NESHAP; in 40 CFR part 63, subpart UUU; was approved 08/31/2004; OMB Number 2060-0554; expires 08/31/2007.

EPA ICR No. 2045.02; NESHAP for Automobile and Light-duty Truck Surface Coating (Final Rule); in 40 CFR part 63; subpart III,; was approved 08/31/2004; OMB Number 2060-0550; expires 08/31/2007.

EPA ICR No. 1984.02; NESHAP for Plywood and Composite Wood Products Manufacturing Plants; in 40 CFR part 63, and 40 CFR part 429, subparts B, C, D, M; was approved 08/31/2004; OMB Number 2060-0552; expires 08/31/2007.

EPA ICR No. 1975.02; NESHAP for Stationary Reciprocating Internal Combustion Engines (Final Rule); in 40 CFR part 63, subpart ZZZZ; was approved 08/31/2004; OMB Number 2060-0548; expires 08/31/2007.

EPA ICR No. 1071.08; NSPS for Stationary Gas Turbines; in 40 CFR part 60, subpart GG; was approved 08/05/2004; OMB Number 2060-0028; expires 08/31/2007.

EPA ICR No. 2154.01; Response technologies for biological, chemical, and radiological threats Vendor Letter: Request for supporting information to produce technical performance reports; was approved 08/13/2004; OMB Number 2050-0194; expires 02/28/2005.

EPA ICR No. 1442.18; Land Disposal Restrictions; in 40 CFR 268.4, 268.5, 268.7, 268.9, 268.42, 268.44, and 268.50; was approved 08/20/2004; OMB Number 2050-0085; expires 08/31/2007.

EPA ICR No. 2028.02; NESHAP for Industrial, Commercial, and Institutional Boilers and Process Heaters; in 40 CFR part 63, subpart DDDDD (Final Rule); was approved 08/31/2004; OMB Number 2060-0551; expires 08/31/2007.

Short Term Extensions

EPA ICR No. 0922.06; Data Call-Ins for the Special Review and Registration Review Program; on 08/31/2004 OMB extended the expiration date to 10/31/2004.

EPA ICR No. 1425.05; Application for Reimbursement to Local Governments for Emergency Response to Hazardous Substance Releases Under CERCLA section 123; on 08/10/2004 OMB extended the expiration date to 11/30/2004.

EPA ICR No. 1922.02; Storage, Treatment, Transportation, and Disposal of Mixed Waste (Final Rule); on 08/10/2004 OMB extended the expiration date to 11/30/2004.

EPA ICR No. 0155.07; Certification of Pesticide Applicators; on 08/30/2004 OMB extended the expiration date to 10/31/2004.

EPA ICR No. 1715.05; TSCA Section 402 and Section 404 Training and Certification, Accreditation and Standards for Lead Based Paint Activities (Final Notification Rule); on 08/30/2004 OMB extended the expiration to 11/30/2004.

EPA ICR No. 1446.07; PCBs: Consolidated Reporting and Recordkeeping Requirements; on 08/30/2004 OMB extended the expiration date to 11/30/2004.

Comment Filed

EPA ICR No. 1773.07; NESHAP for Hazardous Waste Combustors; in 40 CFR part 63, subpart EEE; on 08/05/2004 OMB filed a comment.

EPA ICR No. 2152.01; Clean Air Interstate Rule to Reduce Interstate Transport of Fine Particle Matter and Ozone (CAIR); on 08/31/2004 OMB file a comment.

Correction To Previous Publication

EPA ICR No. 1693.03; Plant Incorporated Protectants; CBI Substantiation and Adverse Effects Reporting; OMB Number 2070-0142. A previously published Federal Register (69 FR 46533) incorrectly cited a reference Federal Register citation as “67 FR 66392.” The Correct citation should be 68 FR 59396.

Dated: September 17, 2004.
Oscar Morales,
Director, Collection Strategies Division.

[FR Doc. 04-21578 Filed 9-24-04; 8:45 am]

BILLING CODE 6560-50-P